NUCLEAR REGULATORY COMMISSION

Notice of Issuance of Regulatory Guide

AGENCY: Nuclear Regulatory Commission.

ACTION: Notice of Issuance and Availability of Regulatory Guide 3.25, Revision 1.

FOR FURTHER INFORMATION CONTACT: Mark Orr, Regulatory Guide Development Branch, Division of Engineering, Office of Nuclear Regulatory Research, U.S. Nuclear Regulatory Commission, Washington, DC 20555-0001, telephone (301) 415-6373 or e-mail to Mark.Orr@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of applications for permits and licenses.

Regulatory Guide 3.25, “Standard Format and Content of Safety Analysis Reports for Uranium Enrichment Facilities,” was issued with a temporary identification as Draft Regulatory Guide, DG-3033. This regulatory guide directs the reader to the type of information acceptable to the NRC staff for review of a safety analysis report (SAR) for uranium enrichment facilities. The SAR may be a separate report submitted as part of the application or may be integrated into the license application. This guide also refers the reader to documentation on the standard format and content of SARs and related documents submitted as part of an application to construct or modify and operate a nuclear fuel cycle facility. Title 10, Part 70, “Domestic Licensing of Special Nuclear Material,” Subpart H, “Additional Requirements for Certain Licensees Authorized to Possess a Critical Mass of Special Nuclear Material,” of the Code of Federal Regulations (10 CFR Part 70, Subpart H) identifies risk-informed performance requirements and requires applicants to complete an integrated safety analysis (ISA) and submit an ISA summary and other information to the NRC for approval.

This regulatory guide endorses the standard format and content for SARs and ISA summaries described in the current version of NUREG-1520, “Standard Review Plan for the Review of a License Application for a Fuel Cycle Facility,” as a process that the NRC staff finds acceptable for meeting the regulatory requirements.

II. Further Information

In May 2008, DG-3033 was published with a public comment period of 60 days from the issuance of the guide. The public comment period closed on July 25, 2008. The staff's responses to the public comments are located in the NRC's Agencywide Documents Access and Management System (ADAMS), Accession Number ML082690576. Electronic copies of Regulatory Guide 3.25, Revision 1 are available through the NRC's public Web site under “Regulatory Guides” at http://www.nrc.gov/reading-rm/doc-collections/.

In addition, regulatory guides are available for inspection at the NRC's Public Document Room (PDR), which is located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland, this 29th day of December 2008.
For the Nuclear Regulatory Commission.
Mark P. Orr,
Acting Chief, Regulatory Guide Development Branch, Division of Engineering, Office of Nuclear Regulatory Research.

[FR Doc. E8-31423 Filed 1-6-09; 8:45 am]

BILLING CODE 7590-01-P